DEPARTMENT OF DEFENSE

Department of the Army; Corps of Engineers

Intent To Prepare an Environmental Impact Statement on an Application for a Department of the Army Permit Under Section 404 of the Clean Water Act by The Sabine Mining Company for the Construction, Operation, and Reclamation of the South Hallsville No. 1 Lignite Mine—Rusk Permit Area, Rusk, Panola, and Harrison Counties, TX

AGENCY: Department of the Army, U.S. Army Corps of Engineers, DoD.

ACTION: Notice of intent.

SUMMARY: The U.S. Army Corps of Engineers, Fort Worth District (USACE) has received an application for a Department of the Army permit under Section 404 of the Clean Water Act (CWA) from The Sabine Mining Company (SMC) to construct, operate, and reclaim the South Hallsville No. 1 Lignite Mine—Rusk Permit Area. In accordance with the National Environmental Policy Act (NEPA) of 1969 (42 U.S.C. 4321 et seq.), the USACE has determined that issuance of such a permit may have a significant impact on the quality of the human environment and, therefore, requires the preparation of an Environmental Impact Statement (EIS).

The USACE intends to prepare an EIS to assess the environmental, social, and economic effects of issuance of a Department of the Army permit under Section 404 of the CWA for discharges of dredged and fill material into waters of the United States (U.S.) associated with the construction of the proposed surface lignite mine. In the EIS, the USACE will assess potential impacts associated with a range of alternatives.

DATES: A public scoping meeting will be held on Tuesday, July 7, 2009, from 5 p.m. to 8 p.m. The purpose of this meeting is to disseminate information about the proposed project and its potential effects to the human environment, and to seek public comments on the scope of the proposed project.

ADDRESSES: The public scoping meeting will be held at the Tatum Middle School, 410 North Hill, Tatum, Texas.

FOR FURTHER INFORMATION CONTACT: For further information and/or questions about the proposed action and EIS, please contact Ms. Jennifer R. Walker, Regulatory Permits Section Chief, by letter at Regulatory Branch, CESWF-PER-R, U.S. Army Corps of Engineers, P.O. Box 17300, Fort Worth, TX 76102-0300 or by telephone at (817) 886-1863.

SUPPLEMENTARY INFORMATION: 1. Description of the Proposed Project: The proposed South Hallsville No. 1 Lignite Mine—Rusk Permit Area would be located approximately 1 mile north of the City of Tatum, Rusk County, Texas. The approximately 20,377-acre mine site would recover approximately 130 million tons of lignite during the 30-year life of the mine, for sole use at the existing H.W. Pirkey Power Plant, which is owned and operated by American Electric Power (AEP). Overall, the proposed project would result in adverse impacts to approximately 300 acres of waters of the U.S., including approximately 186 acres of wetlands, 65 acres of ponds, and approximately 349,320 linear feet of streams, including a navigable reach of the Sabine River. Adverse impacts would occur in conjunction with the removal and stockpiling of overburden and interburden in an effort to recover approximately 90% of the in-place tonnage. As part of this project, several public roads, approximately 400 gas wells, and approximately 350 miles of pipeline would require modification. Other potential adverse effects associated with this project would include loss of forested floodplain and upland habitats, impacts to archeological sites, relocation of residential dwellings and one cemetery, and cumulative effects associated with the operation of four surface lignite mines within an approximately 20-mile radius.

2. Alternatives: Alternatives available to the USACE are to: (1) Issue the Department of the Army permit; (2) issue the Department of the Army permit with special conditions; or (3) deny the Department of the Army permit. Alternatives available to SMC include: (1) Construct, operate, and reclaim the South Hallsville No. 1 Lignite Mine—Rusk Permit Area as proposed by SMC; (2) construct, operate, and reclaim the South Hallsville No. 1 Lignite Mine—Rusk Permit Area with modifications; (3) develop or acquire other lignite supply sources; or (4) no action.

3. Scoping and Public Involvement Process: A public scoping meeting to disseminate information about the proposed project and its potential effects to the human environment, and to seek public comments on the proposed project will be conducted (see DATES & ADDRESSES). A Public Notice will be issued June 23, 2009, to extend the opportunity for Federal, State, and local agencies and officials, and interested individuals to further comment on the proposed project and the scope of the EIS.

4. Significant Issues: Issues to be given significant analysis in the EIS are likely to include, but will not be limited to: The effects to surface water and groundwater resources, including water quantity and quality, effects on the immediate and adjacent property owners and nearby communities, downstream hydraulics and hydrology, geologic resources, vegetation, fish and wildlife, threatened and endangered species, soils, prime farmland, noise, light, aesthetics, historic and pre-historic cultural resources, socioeconomics, land use, public roads, and air quality.

5. Cooperating Agencies: At this time, no other Federal or State agencies have been established as cooperating agencies in preparation of the EIS. However, numerous federal and state agencies, including the U.S. Environmental Protection Agency, the U.S. Fish and Wildlife Service, the Texas Commission on Environmental Quality, the Texas Parks and Wildlife Department, the Railroad Commission of Texas, and the Texas Historical Commission are expected to be involved in the preparation of, and provide comments on, the EIS.

6. Additional Review and Consultation: Compliance with other Federal and State requirements that will be addressed in the EIS include, but will not be limited to, state water quality certification under Section 401 of the Clean Water Act, protection of water quality under the Texas Pollutant Discharge Elimination System, protection of air quality under the Texas Air Quality Act, protection of endangered and threatened species under Section 7 of the Endangered Species Act, and protection of cultural resources under Section 106 of the National Historic Preservation Act.

7. Availability of the Draft EIS: The Draft EIS is projected to be available by August 2009. A public hearing will be conducted following the release of the Draft EIS.

Stephen L. Brooks,
Chief, Regulatory Branch.

[FR Doc. E9-14836 Filed 6-23-09; 8:45 am]

BILLING CODE 3720-58-P